DEPARTMENT OF DEFENSE

Office of the Secretary

Defense Business Board; Amendment of Federal Advisory Committee Meeting Notice

AGENCY: Office of the Deputy Secretary of Defense, Department of Defense (DoD).

ACTION: Amendment of Federal Advisory Committee meeting notice.

SUMMARY: The DoD is publishing this notice to announce that the meeting agenda for the Defense Business Board's November 3-4, 2021 meeting, which was announced in the Federal Register on October 29, 2021, was amended.

DATES: Day 1—Closed to the public Wednesday, November 3, 2021 from 8:55 a.m. to 5:00 p.m. Eastern Standard Time. Day 2—Partially closed to the public Thursday, November 4, 2021 from 8:15 a.m. to 10:30 a.m. Eastern Standard Time. Open to the public Thursday, November 4, 2021 from 10:45 a.m. to 11:40 a.m. Eastern Standard Time. Partially closed to the public Thursday, November 4, 2021 from 2:00 p.m. to 4:10 p.m.

ADDRESSES: The open and closed portions of the meeting were in Room 4E869 in the Pentagon, Washington, DC. Due to the then-current guidance on combating the Coronavirus, the open portion was conducted by teleconference only.

FOR FURTHER INFORMATION CONTACT: Ms. Jennifer Hill, Designated Federal Officer of the Board in writing at Defense Business Board, 1155 Defense Pentagon, Room 5B1088A, Washington, DC 20301-1155; or by email at jennifer.s.hill4.civ@mail.mil; or by phone at 571-342-0070.

SUPPLEMENTARY INFORMATION: The meeting was held under the provisions of the Federal Advisory Committee Act (FACA) (5 U.S.C.), the Government in the Sunshine Act (5 U.S.C. 552b), and 41 CFR 102-3.140 and 102-3.150.

Due to circumstances beyond the control of the DoD and the Designated Federal Officer for the Defense Business Board, the Defense Business Board was unable to provide public notification, as required by 41 CFR 102-3.150(a), that the meeting agenda for the Defense Business Board's November 3-4, 2021 meeting, which was announced in the Federal Register on October 29, 2021, was being amended. Accordingly, the DoD Advisory Committee Management Officer, pursuant to 41 CFR 102-3.150(b), waived the 15-calendar day notification requirement.

Purpose of the Meeting: The mission of the Board is to examine and advise the Secretary of Defense on overall DoD management and governance. The Board provides independent advice reflecting an outside private sector perspective on proven and effective best business practices that can be applied to DoD.

Agenda: The Board meeting was closed to the public due to classification on November 3, 2021 from 8:55 a.m. until 5:00 p.m. with opening remarks by Jennifer Hill, the Designated Federal Officer. The Board then received remarks by the Board Chair, introductions of new Board members, and remarks by the Secretary of Defense and Deputy Secretary of Defense. The Board then received classified briefings from various senior DoD leaders. The Board reconvened in closed session on November 4, 2021 from 8:15 a.m. to 10:30 a.m. with opening remarks by the Designated Federal Officer. The Board then received classified briefings from various senior DoD leaders. The meeting moved into open session from 10:45 a.m. to 11:40 a.m. to receive a briefing from the DoD Office of Small Business Programs. The meeting then moved into closed session from 2:00 p.m. to 4:10 p.m. for classified discussion and closing remarks by the Board Chair and Designated Federal Officer. The final amended agenda is available on the Board's website at: https://dbb.defense.gov/Meetings/Meeting-November-2021/.

Meeting Accessibility: Pursuant to Section 10(d) of the Federal Advisory Committee Act, 5 U.S.C. Appendix and 41 CFR 102-3.160(a)(b), the DoD determined that portions of the Board's meeting were closed to the public. In accordance with Section 10(d) of the Federal Advisory Committee Act, 5 U.S.C. Appendix and 41 CFR 102-3.155, it was determined that portions of the meeting of the Board included classified information and other matters covered by 5 U.S.C. 552b(c)(1) and that, accordingly, the following dates and times were closed to the public: November 3, 2021 from 8:55 a.m. to 5:00 p.m., and November 4, 2021 from 8:15 a.m. to 10:30 a.m. and from 2:00 p.m. to 4:10 p.m. Pursuant to Federal Advisory Committee Act and 41 CFR 102-3.140, portions of the meeting on November 4, 2021 from 10:45 a.m. to 11:40 a.m. were open to the public. Persons desiring to participate in the public session were required to register. Public attendance was by teleconference only.

Written Comments and Statements: Pursuant to 41 CFR 102-3.105(j) and 102-3.140 and section 10(a)(3) of the Federal Advisory Committee Act, the public or interested organizations could have submitted written comments or statements to the Board in response to the stated agenda of the open meeting or in regard to the Board's mission in general. Written comments or statements were to be submitted to Ms. Jennifer Hill, the Designated Federal Officer, via electronic mail (the preferred mode of submission) at the address listed in the FOR FURTHER INFORMATION CONTACT section. Each page of the comment or statement must have included the author's name, title or affiliation, address, and daytime phone number. The Designated Federal Officer must have received written comments or statements being submitted in response to the agenda set forth in this notice at least seven (7) business days prior to the meeting to be considered by the Board. The Designated Federal Officer reviewed all timely submitted written comments or statements with the Board Chair, and ensured the comments were provided to all members of the Board before the meeting. Written comments or statements received after this date will be provided to the Board prior to its next scheduled meeting. Pursuant to 41 CFR 102-3.140d, the Board was not obligated to allow any member of the public to speak or otherwise address the Board during the meeting. Members of the public were permitted to make verbal comments during the meeting only at the time and in the manner described below. If a member of the public was interested in making a verbal comment at the open meeting, that individual must have submitted a request, with a brief statement of the subject matter to be addressed by the comment, at least three (3) business days in advance to the Designated Federal Officer, via electronic mail (the preferred mode of submission) at the addresses listed in the FOR FURTHER INFORMATION CONTACT section. The Designated Federal Officer would have logged each request, in the order received, and in consultation with the Board Chair determined whether the subject matter of each comment was relevant to the Board's mission and/or the topics addressed in the public meeting. Members of the public who requested to make a comment and whose comments were deemed relevant under the process described above would have been invited to speak in the order in which the Designated Federal Officer received their requests. The Board Chair would have allotted a specific amount of time for comments. All submitted comments and statements were treated as public documents and will be made available for public inspection, including, but not limited to, being posted on the Board's website.

Dated: November 16, 2021.
Aaron T. Siegel,
Alternate OSD Federal Register Liaison Officer, Department of Defense.

[FR Doc. 2021-25468 Filed 11-22-21; 8:45 am]

BILLING CODE 5001-06-P